NUCLEAR REGULATORY COMMISSION

[Docket Nos. STN 50-237, STN 50-249, STN 50-254, and STN 50-265; NRC-2010-0373]

Dresden Nuclear Power Station, Units 2 and 3 and Quad Cities Nuclear Power Station, Unit Nos. 1 and 2; Notice of Withdrawal of Application for Amendment to Facility Operating License

The U.S. Nuclear Regulatory Commission (the Commission) has granted the request of Exelon Generation Company, LLC (the licensee) to withdraw its November 10, 2009; as supplemented by letters dated October 12, 2010 and November 16, 2010; application for proposed amendments to Renewed Facility Operating License Nos. DPR-19 and DPR-25 for Dresden Nuclear Power Station, Units 2 and 3, respectively, located in Grundy County, Illinois, and to Renewed Facility Operating License Nos. DPR-29 and DPR-30 for Quad Cities Nuclear Power Station, Unit Nos. 1 and 2, respectively, located in Rock Island, Illinois.

The proposed amendment would have revised Technical Specification 3.1.7, “Standby Liquid Control (SLC) System,” to extend the completion time for Condition B (i.e., “Two SLC subsystems inoperable”) from 8 hours to 72 hours.

The Commission had previously issued a Notice of Consideration of Issuance of Amendment published in the Federal Register on February 9, 2010 (75 FR 6410). However, by letter dated November 16, 2010, the licensee withdrew the proposed change.

For further details with respect to this action, see the application for amendment dated November 10, 2009, as supplemented by letters dated October 12, 2010 and the licensee's letter dated November 16, 2010, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 30th day of November 2010.
For the Nuclear Regulatory Commission.
Eva A. Brown,
Senior Project Manager, Plant Licensing Branch III-2, Division of Operating Reactor Licensing, Office of Nuclear Reactor Regulation,

[FR Doc. 2010-30485 Filed 12-3-10; 8:45 am]

BILLING CODE 7590-01-P